DEPARTMENT OF COMMERCE

National Oceanic and Atmospheric Administration

50 CFR Part 660

[Docket No. 160808696-7010-02]

RIN 0648-BG95

Magnuson-Stevens Act Provisions; Fisheries Off West Coast States; Pacific Coast Groundfish Fishery; 2017-2018 Biennial Specifications and Management Measures; Inseason Adjustments

AGENCY: National Marine Fisheries Service (NMFS), National Oceanic and Atmospheric Administration (NOAA), Commerce.

ACTION: Final rule; inseason adjustments to biennial groundfish management measures.

SUMMARY: This final rule announces inseason changes to management measures in the Pacific Coast groundfish fisheries. This action, which is authorized by the Pacific Coast Groundfish Fishery Management Plan (PCGFMP), is intended to allow fisheries to access more abundant groundfish stocks while protecting overfished and depleted stocks.

DATES: This final rule is effective July 3, 2017.

FOR FURTHER INFORMATION CONTACT: Karen Palmigiano, phone: 206-526-4491, fax: 206-526-6736, or email: karen.palmigiano@noaa.gov.

SUPPLEMENTARY INFORMATION:

Electronic Access

This rule is accessible via the Internet at the Office of the Federal Register Web site at https://www.federalregister.gov. Background information and documents are available at the Pacific Fishery Management Council's Web site at http://www.pcouncil.org/.

Background

The PCGFMP and its implementing regulations at title 50 in the Code of Federal Regulations (CFR), part 660, subparts C through G, regulate fishing for over 90 species of groundfish off the coasts of Washington, Oregon, and California. Groundfish specifications and management measures are developed by the Pacific Fishery Management Council (Council), and are implemented by NMFS.

The final rule to implement the 2017-2018 harvest specifications and management measures for most species of the Pacific coast groundfish fishery was published on February 7, 2017 (82 FR 9634).

The Council, in coordination with Pacific Coast Treaty Indian Tribes and the States of Washington, Oregon, and California, recommended three changes to current groundfish management measures at its June 9-14, 2017 meeting. The changes the Council recommended include: (1) Increasing the limited entry (LE) and open access (OA) fixed gear trip limits for lingcod both north and south of 40°10′ North latitude (N. lat.), (2) modifying the shoreward boundary of the non-trawl rockfish conservation area (RCA) between 40°10′ N. lat. and 34°27′ N. lat., and (3) distributing the deductions initially made from the ACL (i.e. the off-the-top deductions, or “buffer”), 25 metric tons (mt) of Pacific ocean perch (POP) and 50 mt of darkblotched rockfish, and making it available to the mothership (MS) and catcher/processor (C/P) sectors of the at-sea Pacific whiting fishery; 12.5 mt of POP and 25 mt of darkblotched rockfish, to each sector.

Fishery Management Measures for Lingcod LE and OA Fixed Gear North and South of 40°10′ N. lat.

To increase harvest opportunities for LE and OA fixed gear sectors north and south of 40°10′ N. lat., the Council considered increases to lingcod trip limits for all remaining periods in 2017. Trip limits for lingcod north and south of 40°10′ N. lat. have been designated at 50 CFR 660.60(c)(1)(i) and in Section 6.2.1 of the PCGFMP as routine management measures.

Lingcod are distributed coastwide with harvest specifications based on two area stock assessments that were conducted in 2009 for the areas north and south of the California-Oregon border at 42° N. latitude. The stock assessments indicated west coast lingcod stocks are healthy with the stock depletion estimated for lingcod off of Washington and Oregon to be at 62 percent of its unfished biomass, and lingcod off of California estimated to be at 74 percent of its unfished biomass at the start of 2009. Trip limit increases, for species such as lingcod, are intended to reduce discarding (i.e., turn discards into landed catch and thereby improve catch accounting) and increase attainment of the non-trawl harvest guideline (HG). This change may result in a small increase in the catch of some overfished species, such as yelloweye rockfish, but such an increase is very unlikely to result in exceeding overfished species ACLs when combined with the harvest from all other sources.

To assist the Council in evaluating increases to lingcod trip limits, the Groundfish Management Team (GMT) made model-based landings projections for the LE and OA fixed gear sector for north and south of 40°10′ N. lat. for the remainder of the year. For these projections, the GMT included four recent updates to the discard mortality rates used by the West Coast Groundfish Observer Program (WCGOP) to estimate discard mortality each year and, by the GMT, in the nearshore model to project future discard mortality. The updates included: (1) Updating the gear proportions by depth with recent data; (2) calculating regional discard mortality rates to match the WCGOP estimate strata (i.e. north and south of 40°10′ N. lat.); (3) utilizing the Council approved changes to the “sport-like” surface discard mortality rates; and (4) incorporating a bias modifier to calibrate the gear proportions from WCGOP (a sub-sample of landings to reflect the gear proportions from fish tickets in the Pacific Fishery Information Network (PacFIN)). These landings projections also were based on the most recent information available.

The model, using the new discard mortality rates, predicted a projected harvest of 71.2 mt, or 4.2 percent attainment of the 2017 non-trawl allocation (1,680 mt), of lingcod north of 40°10′ N. lat. for both OA and LE fixed gear under the current trip limits, and an increase in projected harvest to 75 mt, or 4.4 percent attainment of the non-trawl allocation, of lingcod north of 40°10′ N. lat. for both OA and LE fixed gear under the recommended increased trip limits. The model also predicted a projected harvest of 91.8 mt, or 13 percent attainment of the non-trawl allocation (683 mt), of lingcod south of 40°10′ N. lat. for both OA and LE fixed gear under the current trip limits, and an increase in projected harvest to 133.8 mt, or 19.6 percent attainment of the non-trawl allocation, of lingcod south of 40°10′ N. lat. for both OA and LE fixed gear under the recommended increased trip limits. Using the updated discard mortality rates, the model also predicted that under the current regulations harvest of yelloweye rockfish through the end of the year would be 0.7 mt lower (1.4 mt out of a 2.1 mt HG) than was anticipated at the start of this year.

Yelloweye rockfish is an overfished species currently managed under a rebuilding plan. The projected impacts to yelloweye rockfish would increase under the increased trip limits for lingcod. Based on the GMT's analysis, the changes to the trip limits north of 40°10′ N. lat. are projected to result in an increase in lingcod landings through the end of the year of approximately 3.8 mt and a projected increase in yelloweye rockfish discard mortality of 0.06 mt. The same GMT analysis showed that an increase in trip limits for lingcod south of 40°10′ N. lat. would result in an increase in projected lingcod landings through the end of the year of 55 mt and an increase in yelloweye rockfish discard mortality of 0.21 mt. This increase in trip limits, and subsequent increase in lingcod landings, does not change total projected impacts to co-occurring overfished species from those anticipated in the 2017-18 harvest specifications and management measures, as the total projected impacts for those species assumes that the entire lingcod ACL is harvested.

Therefore, the Council recommended and NMFS is implementing, by modifying Tables 2 (North and South) to part 660, subpart E and Tables 3 (North and South) to part 660, subpart F in the CFR, trip limit changes for the LE and OA fixed gear fisheries north and south of 40°10′ N. lat. The trip limits for lingcod in the LE fixed gear fishery north of 40°10′ N. lat. are increased from “1,200 lb (544 kg) bimonthly” to “1,400 lb (635 kg) bimonthly” during periods 4 through 5; from “600 lb (272 kg) per month” to “700 lb (318 kg) bimonthly” during the month of November; and from “200 lb (91 kg) per month” to “400 lb (181 kg) bimonthly” during the month of December. The trip limits for lingcod in the LE fixed gear fishery south of 40°10′ N. lat. are increased from “800 lb (363 kg) bimonthly” to “1,200 lb (544 kg) bimonthly” during periods 4 through 5; from “400 lb (181 kg) bimonthly” to “600 lb (272 kg) per month” during the month of November; and from “200 lb (91 kg) per month” to “300 lb (136 kg) bimonthly” during the month of December.

The trip limits for lingcod in the OA fixed gear fishery north of 40°10′ N. lat. are increased from “600 lb (272 kg) per month” to “700 lb (318 kg) per month” during periods 4 through 5 and during the month of November; and from “100 lb (45 kg) per month” to “200 lb (181 kg) per month” during the month of December. The trip limits for lingcod in the OA fixed gear fishery south of 40°10′ N. lat. are increased from “400 lb (181 kg) per month” to “600 lb (272 kg) per month” during periods 3 through 5; and are increased from “100 lb (45 kg) per month” to “150 lb (68 kg) per month” during the month of December.

For the OA fixed gear fishery south of 40°10′ N. lat., the Council recommended a “200 lb (91 kg) per month” trip limit for lingcod during the month of November, which is lower than the current lingcod trip limit for November in the OA fixed gear fishery south of 40°10′ N. lat. at “400 lb (181 kg) per month.” The Council recommended trip limit was based on an error in the GMT report and is inconsistent with the report's analysis of the estimated impacts, which analyzed a “600 lb per month” trip limit for lingcod during the month of November. NMFS understands the Council intent with the recommendations for changes to lingcod trip limits was to increase trip limits from what is currently in regulation to provide additional access and harvest a greater proportion of the lingcod ACL. It was not the Council's intent to reduce harvesting opportunities by reducing the OA fixed gear lingcod trip limits north of 40°10′ N. lat. for the month of November from 400 lb to 200 lb. Therefore, NMFS is not implementing the lower November trip limit for lingcod (200 lb (91 kg) per month) in the OA fixed gear fishery south of 40°10′ N. lat. for the month of November, and the trip limit for that month will remain at “400 lb (181 kg) per month.” This trip limit during the month of November would reduce the projected lingcod impacts from those presented to the Council (146.7 mt) to 133.8 mt.

Fishery Management Measures for the Non-Trawl RCA between 40°10′ N. lat. and 34°27′ N. lat.

The non-trawl RCA applies to vessels that take, retain, possess, or land groundfish using non-trawl gears, unless they are incidental fisheries that are exempt from the non-trawl RCA (e.g. the pink shrimp non-groundfish trawl fishery). The seaward and shoreward boundaries of the non-trawl RCAs vary along the coast, and are divided at various commonly used geographic coordinates, defined in § 660.11, subpart C. Modifications to RCAs are designated as a routine management measure in § 660.60(c)(3)(i) and section 6.2.1 of the PCGFMP.

RCAs were originally established in the early 2000s to protect bocaccio and canary rockfishes which had recently been declared overfished.¹ These large area closures were intended to close off areas to fishing in the main portion of the species' depth range to reduce encounters and subsequent mortality. At that same time, conservative trip limits, including no retention, were implemented to further reduce catches and overall mortality, and ensure the stocks would rebuild more quickly. Unfortunately, implementing RCAs also greatly reduced access to many healthy target stocks which were found in similar depths to overfished species. As a result, an important shelf rockfish fishery which used to operate south of 40°10′ N lat. was severely impacted.

¹ Both canary rockfish and bocaccio were declared rebuilt in 2015 and 2017, respectively.

In 2009, the shoreward boundary of the non-trawl RCA was established based on fishery information indicating that fishing in some areas in the non-trawl fishery have higher yelloweye rockfish catch rates than in others, and the RCA boundaries were adjusted to reduce mortality of yelloweye rockfish in these areas.

Between 40°10′ N. lat. and 34°27′ N. lat., the non-trawl RCA is currently defined by the boundary lines approximating the 30 fm and 125 fm depth contours. All fishing with non-trawl gear must occur shoreward of the boundary line approximating the 30 fm depth contour, or seaward of the boundary line approximating the 125 fm depth contour. Changes to the non-trawl RCA shoreward boundary between 40°10′ N. lat. and 34°27′ N. lat., to shift the shoreward boundary deeper and open additional fishing area shoreward of the non-trawl RCA, were previously recommended by the California Department of Fish and Wildlife (CDFW) during the 2017-18 Harvest Specifications and Management Measures process. The Council did not ultimately recommend a boundary line change, at that time, due to the increased yelloweye rockfish projected impacts when fishing was opened in those areas.

The GMT's recent updates to the discard mortality rates—discussed further under the preamble subheading Fishery Management Measures for Lingcod LE and OA Fixed Gear North and South of 40°10′ N. lat.—resulted in projected impacts to yelloweye rockfish through the end of the year that were lower than anticipated during the development of the 2017-18 harvest specifications and management measures. The Council has recommended modifying the shoreward non-trawl RCA boundary from the boundary line approximating the 30 fm depth contour to the boundary line approximating the 40 fm depth contour in the area from 40°10′ N. lat., and 34°27′ N. lat. The change to the non-trawl RCA shoreward boundary line in this area opens areas that have been closed since 2009, and may increase fishing efficiency and reduce gear conflicts by spreading the nearshore fleet over a larger fishing area. Opening this area is anticipated to increase overall landings of both target and non-target groundfish species, but mortality is anticipated to remain below the allocations or harvest limits for all species.

Modifying the shoreward boundary of the non-trawl RCA in this area would provide harvest opportunities for many important target stocks, specifically deeper nearshore rockfish (blue, brown, copper, and olive rockfishes) and shelf rockfish species (chilipepper, greenblotched, Mexican, and vermilion rockfishes). Non-trawl harvest of groundfish is managed with cumulative trip limits, and any increased attainment is expected to remain within allowable harvest limits. Relatively small impacts to canary, bocaccio, and yelloweye rockfish are expected. All projected bocaccio and canary rockfish impacts would remain within the nearshore fishery share of the non-trawl allocations for those species.

The GMT presented an updated analysis to the Council regarding the projected yelloweye rockfish impacts from modifying the shoreward boundary of the non-trawl RCA. The GMT assumed that effort would remain unchanged within the 0 fm to 10 fm depth bin, and all remaining effort would shift into deeper water (30 to 40 fm depth bin) when the boundary was modified. Yelloweye rockfish is an overfished species that is encountered primarily north of 40°10′ N. lat. Few encounters occur south of 40°10′ N. lat., and no encounters occur south of 34°27′ N. lat. While some encounters may occur from modifying the non-trawl RCA shoreward boundary, they are expected to be rare. Projected impacts of yelloweye rockfish through the end of the year, including impacts of the increased lingcod trip limits discussed above, are within California's nearshore yelloweye rockfish HG share of 0.7 mt. Based on the GMT's projections, the expected increase in yelloweye rockfish impacts is 0.15 mt from what was projected to occur in the absence of the inseason adjustments to management measures implemented in this action.

Therefore, based on the new information available regarding the discard mortality of yellow-eye rockfish, the Council recommended and NMFS is adjusting the shoreward boundary of the non-trawl RCA between 40°10′ N lat. and 34°27′ N. lat., by modifying Table 2 (South) to part 660, subpart E and Table 3 (South) to part 660, subpart F in the CFR, so that the boundary lines approximating the 40 fm and 125 fm depth contours, in this area, will define the non-trawl RCA in this area.

Transferring POP and Darkblotched Rockfish to the MS and C/P Sectors

As part of the biennial harvest specifications and management measures process, annual ACLs are set for non-whiting groundfish species, deductions are made “off-the-top” from the ACL for various sources of mortality (including non-groundfish fisheries that catch groundfish incidentally, also called incidental open access fisheries) and the remainder, the fishery HG, is allocated among the groundfish fisheries. Regulations at § 660.60(c)(3)(ii) allow NMFS to distribute these “off-the-top” deductions from the ACL to any sector through routine inseason action to make fish that would otherwise go unharvested available to other fisheries during the fishery year, and after the Council has made the appropriate considerations. Also consistent with section 6.5.2 of the PCGFMP, NMFS has the authority to implement management measures to reduce bycatch of non-groundfish species and, under certain circumstances, the measures may be implemented inseason. However, under no circumstances may the intention of such management measures be simply to provide more fish to a different user group or to achieve other allocation objectives. Therefore, distribution of POP and darkblocked rockfish to the at-sea sectors meets the criteria specified in regulation at § 660.60(c)(3)(ii) and the PCGFMP for a routine management measure.

During development of the 2017-18 harvest specifications and management measures, the Council recommended, and NMFS implemented, a new category of “off-the-top” deduction, known as a “buffer” (81 FR 75266). The buffer consists of an amount of yield that is deducted from the ACLs for canary and darkblotched rockfish, and POP, as described at § 660.55(b) and specified in the footnotes to Tables 1a and 2a to subpart C. This new management measure set the fishery HG at an amount after the buffer was subtracted from the ACL. The result was a specific amount of yield for each of the three species (25 mt for POP, 50 mt for darkblotched rockfish, and 188 mt for canary rockfish) that was unallocated at the start of the year, but is held in reserve as a buffer, and can be distributed to fisheries in need after an unforeseen catch event occurs inseason. Distribution of the buffer must go to a sector that has demonstrated a need for receiving such a distribution and not for the sole purpose of extending a fishery before a need is demonstrated. Additionally, under the buffer approach, all sectors received a lower allocation of darkblotched rockfish and POP in 2017 than they would have if the entire ACL was allocated; thereby, creating a potential for foregone yield by most sectors. However, foregone yield is expected to be inconsequential because historic attainment of these species has been low, with an average attainment from 2011-2014 of 41 percent of the darkblotched rockfish ACLs and 35 percent of the POP ACLs.

Pacific whiting fisheries encounter Klamath River Chinook salmon incidentally, particularly when fishing off the central and southern Oregon coast. At its March 2017 meeting, the Council received the most recent projections of salmon stock status (Preseason Report I) and considered that Klamath River Chinook will not meet escapement goals for 2017 by a historically large margin. At its April 2017 meeting, the Council recommended complete closure of commercial salmon fisheries off southern Oregon and northern California (approximately 44° N. lat. to 40°10′ N. lat.) and closure of recreational salmon fisheries in similar areas (approximately 42°45′ N. lat. to 40°10′ N. lat.) to protect Klamath River Chinook salmon.

Chinook salmon bycatch in the Pacific whiting fishery varies by latitude, with 81 percent of Chinook being taken when fishing between Cape Falcon (45°46′ N. lat.) and Cape Blanco (42°50′ N. lat.). This is a similar area in which Klamath River Chinook stocks are commonly encountered, where all commercial and recreational salmon fishing in 2017 is closed. At-sea processing of Pacific whiting is currently prohibited south of 42° N. lat. (the Oregon-California border) per regulations at § 660.131(e). Both the MS and C/P sectors expressed willingness at the April 2017 Council meeting to modify operations to avoid Chinook salmon bycatch, but acknowledged that difficulties were likely given their rockfish allocations and historically high Pacific whiting allocations. While moving harvesting operations north to Washington and northern Oregon has likely reduced impacts of the Pacific whiting fishery on Klamath River Chinook, catch of POP in the Pacific whiting fisheries has traditionally been highest when fishing off Washington.

The limited availability of overfished species that can be taken as incidental catch in the Pacific whiting fisheries, particularly darkblotched rockfish and POP, led NMFS to implement sector-specific allocations for these species to the Pacific whiting fisheries. If the sector-specific allocation for a non-whiting species is reached, NMFS may close one or more of the at-sea sectors automatically, per regulations at § 660.60(d). At the start of 2017, the MS and C/P sectors of the Pacific whiting fishery were allocated 9.0 mt and 12.7 mt of POP, respectively, per regulations at § 660.55(c)(1)(i)(B).

At the Council's April meeting, the MS sector requested an increase to their POP set-aside to accommodate northern movement of the fleet to reduce harvest of Klamath River Chinook and to prevent closure of the MS sector prior to harvesting their full allocation of Pacific whiting. To accommodate movement of the at-sea fleets farther north, away from Klamath River Chinook and into waters with historically higher catch rates of POP, the Council recommended, and NMFS implemented a distribution of 7 mt of POP, from the off-the-top deductions that were made at the start of the 2017-2018 biennium, to the MS and C/P sectors, 3.5 mt to each sector, to accommodate potential catch of POP as each sector prosecutes their 2017 Pacific whiting allocations in areas where bycatch of Klamath River Chinook is less likely (May 16, 2017, 82 FR 22428). The Council's intent in distributing the POP, that would otherwise go unharvested, was to maintain 2017 harvest opportunities for the MS and C/P sectors of the Pacific whiting fishery, while protecting Klamath River Chinook.

At the June 2017 Council meeting, the MS and C/P sectors requested access to the darkblotched rockfish and POP “buffers” to continue to accommodate the northern movement of the fleet to reduce harvest of Klamath River Chinook and to prevent closure of either sector prior to harvesting their full allocation of Pacific whiting. In response to this request, the GMT analyzed the current attainments of Pacific whiting, darkblotched and canary rockfishes, and POP, as well as provided some model projections of the estimated needs of the MS and C/P sectors for the 2017 fishing season.

Based on the GMT's analysis, as of June 11, 2017, the MS sector had attained 7.6 percent of their total darkblotched rockfish allocation (0.9 mt out of 11.8 mt), 20.2 percent of their total POP allocation (2.5 mt out of 12.5 mt), and 22.2 percent of their total Pacific whiting allocation (19,334 mt out of 87,044 mt). Over the past 6 years, (2011-2016) by June 11th of each year, the MS sector has harvested an average of 0.84 mt of darkblotched rockfish, 1.65 mt of POP, and 14,689.21 mt of Pacific whiting.

Based on the GMT's analysis, as of June 11, 2017, the C/P sector had attained 26 percent of their total darkblotched rockfish allocation (4.3 mt out of 16.4 mt), 51.1 percent of their total POP allocation (8.3 mt out of 16.2 mt), and 31.9 percent of their total Pacific whiting allocation (39,973.5 mt out of 123,312 mt). Over the past 6 years, (2011-2016) by June 11th of each year, the C/P sector has harvested an average of 1.05 mt of darkblotched rockfish, 1.35 mt of POP, and 31,595.85 mt of Pacific whiting.

On June 20, 2017, NMFS considered additional POP, darkblotched rockfish, and Pacific whiting landing information for the C/P and MS sectors. As of that date, the C/P sector had harvested 28.6 percent (4.69 mt out of 16.4 mt) of their total darkblotched rockfish allocation, 89.81 percent (14.55 mt out of 16.2 mt) of their total POP allocation, and 37.64 percent (46,413.13 mt out of 123,312 mt) of their total Pacific whiting allocation. Additionally, as of the same date, the MS sector had harvested 8.56 percent (1.01 mt out of 11.8 mt) of their total darkblotched rockfish allocation, 22.64 percent (2.83 mt out of 12.5 mt) of their total POP allocation, and 27.48 percent (23,921.03 mt out of 87,044 mt) of their total Pacific whiting allocation.

To continue to accommodate movement of the at-sea fleets farther north, away from Klamath River Chinook and into waters with historically higher catch rates of POP, both sectors would need additional darkblotched rockfish and POP quota to prevent their fishery from closing due to exceeding their overfished species allocations. The Council's intent is to provide fisheries with a demonstrated need access to quota that would otherwise go unharvested, maintain 2017 harvesting opportunities for the MS and C/P sectors of the Pacific whiting fishery, and continue protecting Klamath River Chinook.

Therefore, after reviewing the best available information on interactions between the Pacific whiting fleet and salmon, POP, and darkblotched rockfish, the Council recommended and NMFS is implementing a distribution of 25 mt of POP, from the off-the-top deductions that were made at the start of the 2017-2018 biennium, to the MS and C/P sectors, 12.5 mt to each sector, to accommodate potential catch of POP as each sector prosecutes their 2017 Pacific whiting allocations in areas where bycatch of Klamath River Chinook is less likely. Additionally, the Council recommended and NMFS is implementing a distribution of 50 mt of darkblotched rockfish, from the “off-the-top” deductions that were made at the start of the 2017-2018 biennium, to the MS and C/P sectors, 25 mt to each sector, to accommodate potential catch of darkblotched rockfish as each sector prosecutes their 2017 Pacific whiting harvest in areas where bycatch of Klamath River Chinook is less likely. These changes are implemented through modifications to the footnotes for Table 1a and Table 1b to Part 660, Subpart C of the CFR.

This rule distributes 25 mt of POP and 50 mt of darkblotched rockfish that is anticipated to go unharvested through the end of 2017 to the MS and C/P sectors, implementing the Council's recommendation increases the POP allocations to 25 mt for the MS sector and 28.7 mt for the C/P sector and the darkblotched rockfish set-asides to 36.8 mt for the MS sector and 41.4 mt for the C/P sector. This rule also provides the fleet added flexibility to fish in areas where Klamath River Chinook are less likely to be encountered while reducing the risk of closure of the MS and C/P sectors prior to full attainment of the Pacific whiting allocation if higher catch rates of POP and darkblotched rockfish continue for the remainder of the 2017 fishing season. Transfer of POP and darkblotched rockfish to the MS and C/P sectors, when combined with projected impacts from all other sources, is not expected to result in greater impacts to POP, darkblotched rockfish, or other overfished species than originally projected through the end of the year.

Classification

This final rule makes routine inseason adjustments to groundfish fishery management measures, based on the best available information, consistent with the PCGFMP and its implementing regulations.

This action is taken under the authority of 50 CFR 660.60(c) and is exempt from review under Executive Order 12866.

The aggregate data upon which these actions are based are available for public inspection at the Office of the Administrator, West Coast Region, NMFS, during business hours.

NMFS finds good cause to waive prior public notice and comment on the revisions to groundfish management measures under 5 U.S.C. 553(b) because notice and comment would be impracticable and contrary to the public interest. Also, for the same reasons, NMFS finds good cause to waive the 30-day delay in effectiveness pursuant to 5 U.S.C. 553(d)(3), so that this final rule may become effective July 3, 2017. The adjustments to management measures in this document affect commercial fisheries in Washington, Oregon and California. No aspect of this action is controversial, and changes of this nature were anticipated in the biennial harvest specifications and management measures established through a notice and comment rulemaking for 2017-18.

Accordingly, for the reasons stated below, NMFS finds good cause to waive prior notice and comment and to waive the delay in effectiveness.

Fishery Management Measures for Lingcod LE and OA Fixed Gear North and South of 40°10′ N. lat.

At its June 2017 meeting, the Council recommended an increase to LE and OA fixed gear lingcod trip limits north and south of 40°10′ N. lat. be implemented as quickly as possible to allow harvest of lingcod to better attain, but not exceed, the 2017 ACLs. There was not sufficient time after that meeting to undergo proposed and final rulemaking before this action needs to be in effect. Affording the time necessary for prior notice and opportunity for public comment would prevent NMFS from managing the LE and OA fixed gear fishery using the best available science to increase harvesting opportunities without exceeding the ACLs for federally managed species in accordance with the PCGFMP and applicable law. These increases to trip limits must be implemented as quickly as possible to allow LE and OA fixed gear fishermen an opportunity to harvest higher limits for lingcod coastwide.

It is in the public interest for fishermen to have an opportunity to harvest more of the lingcod ACLs, north and south of 40°10′ N. lat., because the lingcod fishery contributes revenue to the coastal communities of Washington, Oregon, and California. This action, if implemented quickly, is anticipated to allow increased catch of lingcod through the end of the year, and allows harvest as intended by the Council, consistent with the best scientific information available.

The Council considered updated discard mortality rates and the resulting best available projections of yelloweye rockfish harvest that became available at its June 2017 meeting. Projected impacts to yelloweye rockfish through the end of the year were 0.7 mt below the nearshore fishery's 2.1 mt share of the non-trawl allocation. Based on the new information showing lower than anticipated yelloweye rockfish discard mortality, and the need to provide additional harvesting opportunities for healthy and underutilized groundfish species, the Council recommended modifying the shoreward boundary of the non-trawl RCA to open additional area, while keeping harvest of yelloweye rockfish within its HGs and rebuilding ACL.

Fishery Management Measures for the Non-Trawl RCA between 40°10′ N. lat. and 34°27′ N. lat.

It is in the public interest for fisherman to have increased access to fishing areas where high-value target species, such as canary and chilipepper rockfish, are available, because the commercial non-trawl fisheries contribute revenue to the coastal communities of Washington, Oregon, and California. This action, if implemented quickly, is anticipated to allow increased catch of healthy and underutilized groundfish, and allows harvest as intended by the Council, consistent with the best scientific information available.

Transferring POP to the MS and C/P Sectors

At its June 2017 meeting, the Council recommended that the distribution of POP and darkblotched rockfish “buffers” to the MS and C/P sectors and be implemented as quickly as possible to facilitate fishing for Pacific whiting in northern waters to avoid bycatch of Klamath River Chinook salmon. There was not sufficient time after that meeting to undergo proposed and final rulemaking before this action needs to be in effect. Affording the time necessary for prior notice and opportunity for public comment would postpone transfer of POP and darkblotched rockfish to the MS and C/P sectors until later in the season, or potentially eliminate the possibility or doing so during the 2017 calendar year entirely, and is therefore impractical. Failing to reapportion POP and darkblotched rockfish to the MS and C/P sectors in a timely manner could result in additional impacts to Klamath River Chinook salmon if catch of POP or darkblotched rockfish approaches the MS or C/P sectors' POP and darkblotched rockfish allocations and the fleet moves south to prevent a closure prior to their Pacific whiting allocations being harvested. Additionally, failing to reapportion the POP and darkblotched rockfish “buffers” in a timely manner could leave quota unharvested through the end of the year, which would prevent harvest as intended by the Council. New information and analyses that became available to the Council in June indicate that both the MS and C/P sectors need additional POP and darkblotched rockfish to decrease the likelihood of closing one or more of these sectors due to attainment of their rockfish allocations. Therefore, distribution of the POP and darkblotched rockfish buffers is consistent with regulations at § 660.60(c)(3)(ii).

It is in the public interest for the MS and C/P sectors to have an opportunity to harvest their allocations of Pacific whiting without interruption because the Pacific whiting fishery contributes a large amount of revenue to the coastal communities of Washington and Oregon. Additionally, it is in the public interest to continue to protect Klamath River Chinook and reduce potential fishing impacts from the Pacific whiting fishery in areas where directed salmon fishing has been prohibited. Providing more POP and darkblotched rockfish to the MS and C/P sector would allow them to fish further north, lowering the chances of encountering Klamath River Chinook. This action facilitates fleet dynamics to avoid bycatch of Klamath River Chinook salmon, and allows harvest as intended by the Council, consistent with the best scientific information available.

List of Subjects in 50 CFR Part 660

Fisheries, Fishing, and Indian Fisheries.

Dated: July 3, 2017.
Jennifer M. Wallace,
Acting Director, Office of Sustainable Fisheries, National Marine Fisheries Service.

For the reasons set out in the preamble, 50 CFR part 660 is amended as follows:

PART 660—FISHERIES OFF WEST COAST STATES

1. The authority citation for part 660 continues to read as follows:

Authority: 16 U.S.C. 1801 et seq., 16 U.S.C. 773 et seq., and 16 U.S.C. 7001 et seq.

2. Tables 1a and 1b to part 660, subpart C, are revised to read as follows:

ᵃ Annual catch limits (ACLs), annual catch targets (ACTs) and harvest guidelines (HGs) are specified as total catch values.

ᵇ Fishery HGs means the HG or quota after subtracting Pacific Coast treaty Indian tribes allocations and projected catch, projected research catch, deductions for fishing mortality in non-groundfish fisheries, and deductions for EFPs from the ACL or ACT.

ᶜ Bocaccio. A stock assessment was conducted in 2015 for the bocaccio stock between the U.S.-Mexico border and Cape Blanco. The stock is managed with stock-specific harvest specifications south of 40°10' N. lat. and within the Minor Shelf Rockfish complex north of 40°10' N. lat. A historical catch distribution of approximately 7.4 percent was used to apportion the assessed stock to the area north of 40°10' N. lat. The bocaccio stock was estimated to be at 36.8 percent of its unfished biomass in 2015. The OFL of 2,139 mt is projected in the 2015 stock assessment using an FMSY proxy of F50%. The ABC of 2,044 mt is a 4.4 percent reduction from the OFL (σ=0.36/P*=0.45) because it is a category 1 stock. The 790 mt ACL is based on the current rebuilding plan with a target year to rebuild of 2022 and an SPR harvest rate of 77.7 percent. 15.4 mt is deducted from the ACL to accommodate the incidental open access fishery (0.8 mt), EFP catch (10 mt) and research catch (4.6 mt), resulting in a fishery HG of 774.6 mt. The California recreational fishery has an HG of 326.1 mt.

ᵈ Cowcod. A stock assessment for the Conception Area was conducted in 2013 and the stock was estimated to be at 33.9 percent of its unfished biomass in 2013. The Conception Area OFL of 58 mt is projected in the 2013 rebuilding analysis using an FMSY proxy of F50%. The OFL contribution of 12 mt for the unassessed portion of the stock in the Monterey area is based on depletion-based stock reduction analysis. The OFLs for the Monterey and Conception areas were summed to derive the south of 40°10' N. lat. OFL of 70 mt. The ABC for the area south of 40°10' N. lat. is 63 mt. The assessed portion of the stock in the Conception Area is considered category 2, with a Conception area contribution to the ABC of 53 mt, which is an 8.7 percent reduction from the Conception area OFL (σ=0.72/P*=0.45). The unassessed portion of the stock in the Monterey area is considered a category 3 stock, with a contribution to the ABC of 10 mt, which is a 16.6 percent reduction from the Monterey area OFL (σ=1.44/P*=0.45). A single ACL of 10 mt is being set for both areas combined. The ACL of 10 mt is based on the rebuilding plan with a target year to rebuild of 2020 and an SPR harvest rate of 82.7 percent, which is equivalent to an exploitation rate (catch over age 11+ biomass) of 0.007. 2 mt is deducted from the ACL to accommodate the incidental open access fishery (less than 0.1 mt), EFP fishing (less than 0.1 mt) and research activity (2 mt), resulting in a fishery HG of 8 mt. Any additional mortality in research activities will be deducted from the ACL. A single ACT of 4 mt is being set for both areas combined.

ᵉ Darkblotched rockfish. A 2015 stock assessment estimated the stock to be at 39 percent of its unfished biomass in 2015. The OFL of 671 mt is projected in the 2015 stock assessment using an FMSY proxy of F50%. The ABC of 641 mt is a 4.4 percent reduction from the OFL (σ=0.36/P*=0.45) because it is a category 1 stock. The ACL is set equal to the ABC, as the stock is projected to be above its target biomass of B40% in 2017. 77.3 mt is deducted from the ACL to accommodate the Tribal fishery (0.2 mt), the incidental open access fishery (24.5 mt), EFP catch (0.1 mt), research catch (2.5 mt) and an additional deduction for unforeseen catch events (50 mt), resulting in a fishery HG of 563.8 mt. Of the 50 mt initially deducted from the ACL to account for unforeseen catch events, 50 mt is distributed to the mothership and catcher/processor sectors inseason, 25 mt to each sector, consistent with 660.60(c)(3)(ii).

ᶠ Pacific ocean perch. A stock assessment was conducted in 2011 and the stock was estimated to be at 19.1 percent of its unfished biomass in 2011. The OFL of 964 mt for the area north of 40°10' N. lat. is based on an updated catch-only projection of the 2011 rebuilding analysis using an F50% FMSY proxy. The ABC of 922 mt is a 4.4 percent reduction from the OFL (σ=0.36/P*=0.45) because it is a category 1 stock. The ACL is based on the current rebuilding plan with a target year to rebuild of 2051 and a constant catch amount of 281 mt in 2017 and 2018, followed in 2019 and beyond by ACLs based on an SPR harvest rate of 86.4 percent. 49.4 mt is deducted from the ACL to accommodate the Tribal fishery (9.2 mt), the incidental open access fishery (10 mt), research catch (5.2 mt) and an additional deduction for unforeseen catch events (25 mt), resulting in a fishery HG of 231.6 mt. Of the 10 mt initially deducted from the ACL to account for mortality in the incidental open access fishery, a total of 7 mt is distributed to the mothership and catcher/processor sectors inseason, 3.5 mt to each sector consistent with 660.60(c)(3)(ii), resulting in a 3 mt deduction from the ACL for mortality in the incidental open access fishery. Of the 25 mt initially deducted from the ACL to account for unforeseen catch events, 25 mt is distributed to the mothership and catcher/processor sectors inseason, 12.5 mt to each sector, consistent with 660.60(c)(3)(ii).

ᵍ Yelloweye rockfish. A stock assessment update was conducted in 2011. The stock was estimated to be at 21.4 percent of its unfished biomass in 2011. The 57 mt coastwide OFL is based on a catch-only update of the 2011 stock assessment, assuming actual catches since 2011 and using an FMSY proxy of F50%. The ABC of 47 mt is a 16.7 percent reduction from the OFL (σ=0.72/P*=0.40) because it is a category 2 stock. The 20 mt ACL is based on the current rebuilding plan with a target year to rebuild of 2074 and an SPR harvest rate of 76.0 percent. 5.4 mt is deducted from the ACL to accommodate the Tribal fishery (2.3 mt), the incidental open access fishery (0.4 mt), EFP catch (less than 0.1 mt) and research catch (2.7 mt), resulting in a fishery HG of 14.6 mt. Recreational HGs are: 3.3 mt (Washington); 3 mt (Oregon); and 3.9 mt (California).

ʰ Arrowtooth flounder. The arrowtooth flounder stock was last assessed in 2007 and was estimated to be at 79 percent of its unfished biomass in 2007. The OFL of 16,571 mt is derived from a catch-only update of the 2007 stock assessment assuming actual catches since 2007 and using an F30% FMSY proxy. The ABC of 13,804 mt is a 16.7 percent reduction from the OFL (σ=0.72/P*=0.40) because it is a category 2 stock. The ACL is set equal to the ABC because the stock is above its target biomass of B25%. 2,098.1 mt is deducted from the ACL to accommodate the Tribal fishery (2,041 mt), the incidental open access fishery (40.8 mt), and research catch (16.4 mt), resulting in a fishery HG of 11,705.9 mt.

ⁱ Big skate. The OFL of 541 mt is based on an estimate of trawl survey biomass and natural mortality. The ABC of 494 mt is an 8.7 percent reduction from the OFL (σ=0.72/P*=0.45) as it is a category 2 stock. The ACL is set equal to the ABC. 57.4 mt is deducted from the ACL to accommodate the Tribal fishery (15 mt), the incidental open access fishery (38.4 mt), and research catch (4 mt), resulting in a fishery HG of 436.6 mt.

ʲ Black rockfish (California). A 2015 stock assessment estimated the stock to be at 33 percent of its unfished biomass in 2015. The OFL of 349 mt is projected in the 2015 stock assessment using an FMSY proxy of F50%. The ABC of 334 mt is a 4.4 percent reduction from the OFL (σ=0.36/P*=0.45) because it is a category 1 stock. The ACL is set equal to the ABC because the stock is projected to be above its target biomass of B40% in 2017. 1 mt is deducted from the ACL to accommodate EFP catch (1 mt), resulting in a fishery HG of 333 mt.

ᵏ Black rockfish (Oregon). A 2015 stock assessment estimated the stock to be at 60 percent of its unfished biomass in 2015. The OFL of 577 mt is projected in the 2015 stock assessment using an FMSY proxy of F50%. The ABC of 527 mt is an 8.7 percent reduction from the OFL (σ=0.72/P*=0.45) because it is a category 2 stock. The ACL is set equal to the ABC because the stock is above its target biomass of B40%. 0.6 mt is deducted from the ACL to accommodate the incidental open access fishery (0.6 mt), resulting in a fishery HG of 526.4 mt.

ˡ Black rockfish (Washington). A 2015 stock assessment estimated the stock to be at 43 percent of its unfished biomass in 2015. The OFL of 319 mt is projected in the 2015 stock assessment using an FMSY proxy of F50%. The ABC of 305 mt is a 4.4 percent reduction from the OFL (σ=0.36/P*=0.45) because it is a category 1 stock. The ACL is set equal to the ABC because the stock is above its target biomass of B40%. 18 mt is deducted from the ACL to accommodate the Tribal fishery, resulting in a fishery HG of 287 mt.

ᵐ Blackgill rockfish. Blackgill rockfish contributes to the harvest specifications for the Minor Slope Rockfish South complex. See footnote/pp.

ⁿ Cabezon (California). A cabezon stock assessment was conducted in 2009. The cabezon spawning biomass in waters off California was estimated to be at 48.3 percent of its unfished biomass in 2009. The OFL of 157 mt is calculated using an FMSY proxy of F45%. The ABC of 150 mt is based on a 4.4 percent reduction from the OFL (σ=0.36/P*=0.45) because it is a category 1 stock. The ACL is set equal to the ABC because the stock is above its target biomass of B40%. 0.3 mt is deducted from the ACL to accommodate the incidental open access fishery, resulting in a fishery HG of 149.7 mt.

ᵒ Cabezon (Oregon). A cabezon stock assessment was conducted in 2009. The cabezon spawning biomass in waters off Oregon was estimated to be at 52 percent of its unfished biomass in 2009. The OFL of 49 mt is calculated using an FMSY proxy of F45%. The ABC of 47 mt is based on a 4.4 percent reduction from the OFL (σ=0.36/P*=0.45) because it is a category 1 species. The ACL is set equal to the ABC because the stock is above its target biomass of B40%. There are no deductions from the ACL so the fishery HG is also equal to the ACL of 47 mt.

ᵖ California scorpionfish. A California scorpionfish assessment was conducted in 2005 and was estimated to be at 79.8 percent of its unfished biomass in 2005. The OFL of 289 mt is based on projections from a catch-only update of the 2005 assessment assuming actual catches since 2005 and using an FMSY harvest rate proxy of F50%. The ABC of 264 mt is an 8.7 percent reduction from the OFL (σ=0.72/P*=0.45) because it is a category 2 stock. The ACL is set at a constant catch amount of 150 mt. 2.2 mt is deducted from the ACL to accommodate the incidental open access fishery (2 mt) and research catch (0.2 mt), resulting in a fishery HG of 147.8 mt. An ACT of 111 mt is established.

q Canary rockfish. A stock assessment was conducted in 2015 and the stock was estimated to be at 55.5 percent of its unfished biomass coastwide in 2015. The coastwide OFL of 1,793 mt is projected in the 2015 assessment using an FMSY harvest rate proxy of F50%. The ABC of 1,714 mt is a 4.4 percent reduction from the OFL (σ=0.36/P*=0.45) because it is a category 1 stock. The ACL is set equal to the ABC because the stock is above its target biomass of B40%. 247 mt is deducted from the ACL to accommodate the Tribal fishery (50 mt), the incidental open access fishery (1.2 mt), EFP catch (1 mt), research catch (7.2 mt), and an additional deduction for unforeseen catch events (188 mt), resulting in a fishery HG of 1,466.6 mt. Recreational HGs are: 50 mt (Washington); 75 mt (Oregon); and 135 mt (California).

ʳ Chilipepper. A coastwide update assessment of the chilipepper stock was conducted in 2015 and estimated to be at 64 percent of its unfished biomass in 2015. Chilipepper are managed with stock-specific harvest specifications south of 40°10′ N. lat. and within the Minor Shelf Rockfish complex north of 40°10′ N. lat. Projected OFLs are stratified north and south of 40°10′ N. lat. based on the average historical assessed area catch, which is 93 percent for the area south of 40°10′ N. lat. and 7 percent for the area north of 40°10′ N. lat. The OFL of 2,727 mt for the area south of 40°10′ N. lat. is projected in the 2015 assessment using an FMSY proxy of F50%. The ABC of 2,607 mt is a 4.4 percent reduction from the OFL (σ=0.36/P*=0.45) because it is a category 1 stock. The ACL is set equal to the ABC because the stock is above its target biomass of B40%. 45.9 mt is deducted from the ACL to accommodate the incidental open access fishery (5 mt), EFP fishing (30 mt), and research catch (10.9 mt), resulting in a fishery HG of 2,561.1 mt.

ˢ Dover sole. A 2011 Dover sole assessment estimated the stock to be at 83.7 percent of its unfished biomass in 2011. The OFL of 89,702 mt is based on an updated catch-only projection from the 2011 stock assessment assuming actual catches since 2011 and using an FMSY proxy of F30%. The ABC of 85,755 mt is a 4.4 percent reduction from the OFL (σ=0.36/P*=0.45) because it is a category 1 stock. The ACL could be set equal to the ABC because the stock is above its target biomass of B25%. However, the ACL of 50,000 mt is set at a level below the ABC and higher than the maximum historical landed catch. 1,593.7 mt is deducted from the ACL to accommodate the Tribal fishery (1,497 mt), the incidental open access fishery (54.8 mt), and research catch (41.9 mt), resulting in a fishery HG of 48,406.3 mt.

ᵗ English sole. A 2013 stock assessment was conducted, which estimated the stock to be at 88 percent of its unfished biomass in 2013. The OFL of 10,914 mt is projected in the 2013 assessment using an FMSY proxy of F30%. The ABC of 9,964 mt is an 8.7 percent reduction from the OFL (σ=0.72/P*=0.45) because it is a category 2 stock. The ACL is set equal to the ABC because the stock is above its target biomass of B25%. 212.8 mt is deducted from the ACL to accommodate the Tribal fishery (200 mt), the incidental open access fishery (7.0 mt) and research catch (5.8 mt), resulting in a fishery HG of 9,751.2 mt.

ᵘ Lingcod north. The 2009 lingcod assessment modeled two populations north and south of the California-Oregon border (42° N. lat.). Both populations were healthy with stock depletion estimated at 62 and 74 percent for the north and south, respectively in 2009. The OFL is based on an updated catch-only projection from the 2009 assessment assuming actual catches since 2009 and using an FMSY proxy of F45%. The OFL is apportioned north of 40°10′ N. lat. by adding 48% of the OFL from California, resulting in an OFL of 3,549 mt for the area north of 40°10′ N. lat. The ABC of 3,333 mt is based on a 4.4 percent reduction (σ=0.36/P*=0.45) from the OFL contribution for the area north of 42° N. lat. because it is a category 1 stock, and an 8.7 percent reduction (σ=0.72/P*=0.45) from the OFL contribution for the area between 42° N. lat. and 40°10′ N. lat. because it is a category 2 stock. The ACL is set equal to the ABC because the stock is above its target biomass of B40%. 278.2 mt is deducted from the ACL for the Tribal fishery (250 mt), the incidental open access fishery (16 mt), EFP catch (0.5 mt) and research catch (11.7 mt), resulting in a fishery HG of 3,054.8 mt.

ᵛ Lingcod south. The 2009 lingcod assessment modeled two populations north and south of the California-Oregon border (42° N. lat.). Both populations were healthy with stock depletion estimated at 62 and 74 percent for the north and south, respectively in 2009.The OFL is based on an updated catch-only projection of the 2009 stock assessment assuming actual catches since 2009 using an FMSY proxy of F45%. The OFL is apportioned by subtracting 48% of the California OFL, resulting in an OFL of 1,502 mt for the area south of 40°10′ N. lat. The ABC of 1,251 mt is based on a 16.7 percent reduction from the OFL (σ=0.72/P*=0.40) because it is a category 2 stock. The ACL is set equal to the ABC because the stock is above its target biomass of B40%. 9 mt is deducted from the ACL to accommodate the incidental open access fishery (6.9 mt), EFP fishing (1 mt), and research catch (1.1 mt), resulting in a fishery HG of 1,242 mt.

ʷ Longnose skate. A stock assessment was conducted in 2007 and the stock was estimated to be at 66 percent of its unfished biomass. The OFL of 2,556 mt is derived from the 2007 stock assessment using an FMSY proxy of F50%. The ABC of 2,444 mt is a 4.4 percent reduction from the OFL (σ=0.36/P*=0.45) because it is a category 1 stock. The ACL of 2,000 mt is a fixed harvest level that provides greater access to the stock and is less than the ABC. 147 mt is deducted from the ACL to accommodate the Tribal fishery (130 mt), incidental open access fishery (3.8 mt), and research catch (13.2 mt), resulting in a fishery HG of 1,853 mt.

ˣ Longspine thornyhead. A 2013 longspine thornyhead coastwide stock assessment estimated the stock to be at 75 percent of its unfished biomass in 2013. A coastwide OFL of 4,571 mt is projected in the 2013 stock assessment using an F50% FMSY proxy. The coastwide ABC of 3,808 mt is a 16.7 percent reduction from the OFL (σ=0.72/P*=0.40) because it is a category 2 stock. For the portion of the stock that is north of 34°27′ N. lat., the ACL is 2,894 mt, and is 76 percent of the coastwide ABC based on the average swept-area biomass estimates (2003-2012) from the NMFS NWFSC trawl survey. 46.8 mt is deducted from the ACL to accommodate the Tribal fishery (30 mt), the incidental open access fishery (3.3 mt), and research catch (13.5 mt), resulting in a fishery HG of 2,847.2 mt. For that portion of the stock south of 34°27′ N. lat. the ACL is 914 mt and is 24 percent of the coastwide ABC based on the average swept-area biomass estimates (2003-2012) from the NMFS NWFSC trawl survey. 3.2 mt is deducted from the ACL to accommodate the incidental open access fishery (1.8 mt), and research catch (1.4 mt), resulting in a fishery HG of 910.8 mt.

ʸ Pacific cod. The 3,200 mt OFL is based on the maximum level of historic landings. The ABC of 2,221 mt is a 30.6 percent reduction from the OFL (σ=1.44/P*=0.40) because it is a category 3 stock. The 1,600 mt ACL is the OFL reduced by 50 percent as a precautionary adjustment. 509 mt is deducted from the ACL to accommodate the Tribal fishery (500 mt), research catch (7 mt), and the incidental open access fishery (2 mt), resulting in a fishery HG of 1,091 mt.

ᶻ Pacific whiting. The coastwide (U.S. and Canada) stock assessment was published in 2017 and estimated the spawning stock to be at 89 percent of its unfished biomass. The 2017 coastwide OFL of 969,840 mt is based on the 2017 assessment with an F40% FMSY proxy. The 2017 coastwide, unadjusted Total Allowable Catch (TAC) of 531,501 mt is based on the 2017 stock assessment and the recommendation by the Joint Management Committee (JMC), based on a precautionary approach. The U.S. TAC is 73.88 percent of the coastwide TAC, or 392,673 mt unadjusted TAC for 2017. 15 percent of each party's unadjusted 2016 TAC (48,760 mt for the U.S) is added to each party's 2017 unadjusted TAC, resulting in a U.S. adjusted 2017 TAC of 431,433 mt. The 2017 fishery HG for Pacific whiting is 362,682 mt. This amount was determined by deducting from the total U.S. TAC of 431,433 mt, the 77,251 mt tribal allocation, along with 1,500 mt for scientific research catch and fishing mortality in non-groundfish fisheries.

ᵃᵃ Petrale sole. A 2015 stock assessment update was conducted, which estimated the stock to be at 31 percent of its unfished biomass in 2015. The OFL of 3,280 mt is projected in the 2015 assessment using an FMSY proxy of F30%. The ABC of 3,136 mt is a 4.4 percent reduction from the OFL (σ=0.36/P*=0.45) because it is a category 1 stock. The ACL is set equal to the ABC because the stock is above its target biomass of B25%. 240.9 mt is deducted from the ACL to accommodate the Tribal fishery (220 mt), the incidental open access fishery (3.2 mt) and research catch (17.7 mt), resulting in a fishery HG of 2,895.1 mt.

ᵇᵇ Sablefish north. A coastwide sablefish stock assessment update was conducted in 2015. The coastwide sablefish biomass was estimated to be at 33 percent of its unfished biomass in 2015. The coastwide OFL of 8,050 mt is projected in the 2015 stock assessment using an FMSY proxy of F45%. The ABC of 7,350 mt is an 8.7 percent reduction from the OFL (σ=0.36/P*=0.40). The 40-10 adjustment is applied to the ABC to derive a coastwide ACL value because the stock is in the precautionary zone. This coastwide ACL value is not specified in regulations. The coastwide ACL value is apportioned north and south of 36° N. lat., using the 2003-2014 average estimated swept area biomass from the NMFS NWFSC trawl survey, with 73.8 percent apportioned north of 36° N. lat. and 26.2 percent apportioned south of 36° N. lat. The northern ACL is 5,252 mt and is reduced by 525 mt for the Tribal allocation (10 percent of the ACL north of 36° N. lat.). The 525 mt Tribal allocation is reduced by 1.5 percent to account for discard mortality. Detailed sablefish allocations are shown in Table 1c.

ᶜᶜ Sablefish south. The ACL for the area south of 36° N. lat. is 1,864 mt (26.2 percent of the calculated coastwide ACL value). 5 mt is deducted from the ACL to accommodate the incidental open access fishery (2 mt) and research catch (3 mt), resulting in a fishery HG of 1,859 mt.

ᵈᵈ Shortbelly rockfish. A non-quantitative shortbelly rockfish assessment was conducted in 2007. The spawning stock biomass of shortbelly rockfish was estimated to be 67 percent of its unfished biomass in 2005. The OFL of 6,950 mt is based on the estimated MSY in the 2007 stock assessment. The ABC of 5,789 mt is a 16.7 percent reduction of the OFL (σ=0.72/P*=0.40) because it is a category 2 stock. The 500 mt ACL is set to accommodate incidental catch when fishing for co-occurring healthy stocks and in recognition of the stock's importance as a forage species in the California Current ecosystem. 10.9 mt is deducted from the ACL to accommodate the incidental open access fishery (8.9 mt) and research catch (2 mt), resulting in a fishery HG of 489.1 mt.

ᵉᵉ Shortspine thornyhead. A 2013 coastwide shortspine thornyhead stock assessment estimated the stock to be at 74.2 percent of its unfished biomass in 2013. A coastwide OFL of 3,144 mt is projected in the 2013 stock assessment using an F50% FMSY proxy. The coastwide ABC of 2,619 mt is a 16.7 percent reduction from the OFL (σ=0.72/P*=0.40) because it is a category 2 stock. For the portion of the stock that is north of 34°27′ N. lat., the ACL is 1,713 mt. The northern ACL is 65.4 percent of the coastwide ABC based on the average swept-area biomass estimates (2003-2012) from the NMFS NWFSC trawl survey. 59 mt is deducted from the ACL to accommodate the Tribal fishery (50 mt), the incidental open access fishery (1.8 mt), and research catch (7.2 mt), resulting in a fishery HG of 1,654 mt for the area north of 34°27′ N. lat. For that portion of the stock south of 34°27′ N. lat. the ACL is 906 mt. The southern ACL is 34.6 percent of the coastwide ABC based on the average swept-area biomass estimates (2003-2012) from the NMFS NWFSC trawl survey. 42.3 mt is deducted from the ACL to accommodate the incidental open access fishery (41.3 mt) and research catch (1 mt), resulting in a fishery HG of 863.7 mt for the area south of 34°27′ N. lat.

ᶠᶠ Spiny dogfish. A coastwide spiny dogfish stock assessment was conducted in 2011. The coastwide spiny dogfish biomass was estimated to be at 63 percent of its unfished biomass in 2011. The coastwide OFL of 2,514 mt is derived from the 2011 assessment using an FMSY proxy of F50%. The coastwide ABC of 2,094 mt is a 16.7 percent reduction from the OFL (σ=0.72/P*=0.40) because it is a category 2 stock. The ACL is set equal to the ABC because the stock is above its target biomass of B40%. 338 mt is deducted from the ACL to accommodate the Tribal fishery (275 mt), the incidental open access fishery (49.5 mt), EFP catch (1 mt), and research catch (12.5 mt), resulting in a fishery HG of 1,756 mt.

ᵍᵍ Splitnose rockfish. A coastwide splitnose rockfish assessment was conducted in 2009 that estimated the stock to be at 66 percent of its unfished biomass in 2009. Splitnose rockfish in the north is managed in the Minor Slope Rockfish complex and with stock-specific harvest specifications south of 40°10′ N. lat. The coastwide OFL is projected in the 2009 assessment using an FMSY proxy of F50%. The coastwide OFL is apportioned north and south of 40°10′ N. lat. based on the average 1916-2008 assessed area catch, resulting in 64.2 percent of the coastwide OFL apportioned south of 40°10′ N. lat., and 35.8 percent apportioned for the contribution of splitnose rockfish to the northern Minor Slope Rockfish complex. The southern OFL of 1,841 mt results from the apportionment described above. The southern ABC of 1,760 mt is a 4.4 percent reduction from the southern OFL (σ=0.36/P*=0.45) because it is a category 1 stock. The ACL is set equal to the ABC because the stock is estimated to be above its target biomass of B40%. 10.7 mt is deducted from the ACL to accommodate the incidental open access fishery (0.2 mt), research catch (9 mt) and EFP catch (1.5 mt), resulting in a fishery HG of 1,749.3 mt.

ʰʰ Starry flounder. The stock was assessed in 2005 and was estimated to be above 40 percent of its unfished biomass in 2005 (44 percent in Washington and Oregon, and 62 percent in California). The coastwide OFL of 1,847 mt is set equal to the 2016 OFL, which was derived from the 2005 assessment using an FMSY proxy of F30%. The ABC of 1,282 mt is a 30.6 percent reduction from the OFL (σ=1.44/P*=0.40) because it is a category 3 stock. The ACL is set equal to the ABC because the stock was estimated to be above its target biomass of B25% in 2017. 10.3 mt is deducted from the ACL to accommodate the Tribal fishery (2 mt), and the incidental open access fishery (8.3 mt), resulting in a fishery HG of 1,271.7 mt.

ⁱⁱ Widow rockfish. The widow rockfish stock was assessed in 2015 and was estimated to be at 75 percent of its unfished biomass in 2015. The OFL of 14,130 mt is projected in the 2015 stock assessment using the F50% FMSY proxy. The ABC of 13,508 mt is a 4.4 percent reduction from the OFL (σ=0.36/P*=0.45) because it is a category 1 stock. The ACL is set equal to the ABC because the stock is above its target biomass of B40%. 217.7 mt is deducted from the ACL to accommodate the Tribal fishery (200 mt), the incidental open access fishery (0.5 mt), EFP catch (9 mt) and research catch (8.2 mt), resulting in a fishery HG of 13,290.3 mt.

ʲʲ Yellowtail rockfish. A 2013 yellowtail rockfish stock assessment was conducted for the portion of the population north of 40°10′ N. lat. The estimated stock depletion was 67 percent of its unfished biomass in 2013. The OFL of 6,786 mt is projected in the 2013 stock assessment using an FMSY proxy of F50%. The ABC of 6,196 mt is an 8.7 percent reduction from the OFL (σ=0.72/P*=0.45) because it is a category 2 stock. The ACL is set equal to the ABC because the stock is above its target biomass of B40%. 1,030 mt is deducted from the ACL to accommodate the Tribal fishery (1,000 mt), the incidental open access fishery (3.4 mt), EFP catch (10 mt) and research catch (16.6 mt), resulting in a fishery HG of 5,166.1 mt.

ᵏᵏ Minor Nearshore Rockfish north. The OFL for Minor Nearshore Rockfish north of 40°10′ N. lat. of 118 mt is the sum of the OFL contributions for the component species managed in the complex. The ABCs for the minor rockfish complexes are based on a sigma value of 0.72 for category 2 stocks (blue/deacon rockfish in California, brown rockfish, China rockfish, and copper rockfish) and a sigma value of 1.44 for category 3 stocks (all others) with a P* of 0.45. The resulting ABC of 105 mt is the summed contribution of the ABCs for the component species. The ACL of 105 mt is the sum of contributing ABCs of healthy assessed stocks and unassessed stocks, plus the ACL contributions for blue/deacon rockfish in California where the 40-10 adjustment was applied to the ABC contribution for this stock because it is in the precautionary zone. 1.8 mt is deducted from the ACL to accommodate the Tribal fishery (1.5 mt) and the incidental open access fishery (0.3 mt), resulting in a fishery HG of 103.2 mt. Between 40°10′ N. lat. and 42° N. lat. the Minor Nearshore Rockfish complex north has a HG of 40.2 mt. Blue/deacon rockfish south of 42° N. lat. has a stock-specific HG, described in footnote nn/.

ˡˡ Minor Shelf Rockfish north. The OFL for Minor Shelf Rockfish north of 40°10′ N. lat. of 2,303 mt is the sum of the OFL contributions for the component species within the complex. The ABCs for the minor rockfish complexes are based on a sigma value of 0.36 for a category 1 stock (chilipepper), a sigma value of 0.72 for category 2 stocks (greenspotted rockfish between 40°10′ and 42° N. lat. and greenstriped rockfish), and a sigma value of 1.44 for category 3 stocks (all others) with a P* of 0.45. The resulting ABC of 2,049 mt is the summed contribution of the ABCs for the component species. The ACL of 2,049 mt is the sum of contributing ABCs of healthy assessed stocks and unassessed stocks, plus the ACL contribution of greenspotted rockfish in California where the 40-10 adjustment was applied to the ABC contribution for this stock because it is in the precautionary zone. 83.8 mt is deducted from the ACL to accommodate the Tribal fishery (30 mt), the incidental open access fishery (26 mt), EFP catch (3 mt), and research catch (24.8 mt), resulting in a fishery HG of 1,965.2 mt.

ᵐᵐ Minor Slope Rockfish north. The OFL for Minor Slope Rockfish north of 40°10′ N. lat. of 1,897 mt is the sum of the OFL contributions for the component species within the complex. The ABCs for the Minor Slope Rockfish complexes are based on a sigma value of 0.39 for aurora rockfish, a sigma value of 0.36 for the other category 1 stock (splitnose rockfish), a sigma value of 0.72 for category 2 stocks (rougheye rockfish, blackspotted rockfish, and sharpchin rockfish), and a sigma value of 1.44 for category 3 stocks (all others) with a P* of 0.45. A unique sigma of 0.39 was calculated for aurora rockfish because the variance in estimated spawning biomass was greater than the 0.36 used as a proxy for other category 1 stocks. The resulting ABC of 1,755 mt is the summed contribution of the ABCs for the component species. The ACL is set equal to the ABC because all the assessed component stocks (i.e., rougheye rockfish, blackspotted rockfish, sharpchin rockfish, and splitnose rockfish) are above the target biomass of B40%. 65.1 mt is deducted from the ACL to accommodate the Tribal fishery (36 mt), the incidental open access fishery (18.6 mt), EFP catch (1 mt), and research catch (9.5 mt), resulting in a fishery HG of 1,689.9 mt.

ⁿⁿ Minor Nearshore Rockfish south. The OFL for the Minor Nearshore Rockfish complex south of 40°10′ N. lat. of 1,329 mt is the sum of the OFL contributions for the component species within the complex. The ABC for the southern Minor Nearshore Rockfish complex is based on a sigma value of 0.72 for category 2 stocks (i.e., blue/deacon rockfish north of 34°27′ N. lat., brown rockfish, China rockfish, and copper rockfish) and a sigma value of 1.44 for category 3 stocks (all others) with a P* of 0.45. The resulting ABC of 1,166 mt is the summed contribution of the ABCs for the component species. The ACL of 1,163 mt is the sum of the contributing ABCs of healthy assessed stocks and unassessed stocks, plus the ACL contribution for blue/deacon rockfish north of 34°27′ N. lat. and China rockfish where the 40-10 adjustment was applied to the ABC contributions for these two stocks because they are in the precautionary zone. 4.1 mt is deducted from the ACL to accommodate the incidental open access fishery (1.4 mt) and research catch (2.7 mt), resulting in a fishery HG of 1,158.9 mt. Blue/deacon rockfish south of 42° N. lat. has a stock-specific HG set equal to the 40-10-adjusted ACL for the portion of the stock north of 34°27′ N lat. (243.7 mt) plus the ABC contribution for the unassessed portion of the stock south of 34°27′ N. lat. (60.8 mt). The California (i.e. south of 42° N. lat.) blue/deacon rockfish HG is 304.5 mt.

ᵒᵒ Minor Shelf Rockfish south. The OFL for the Minor Shelf Rockfish complex south of 40°10′ N. lat. of 1,917 mt is the sum of the OFL contributions for the component species within the complex. The ABC for the southern Minor Shelf Rockfish complex is based on a sigma value of 0.72 for category 2 stocks (greenspotted and greenstriped rockfish) and a sigma value of 1.44 for category 3 stocks (all others) with a P* of 0.45. The resulting ABC of 1,624 mt is the summed contribution of the ABCs for the component species. The ACL of 1,623 mt is the sum of contributing ABCs of healthy assessed stocks and unassessed stocks, plus the ACL contribution of greenspotted rockfish in California where the 40-10 adjustment was applied to the ABC contribution for this stock because it is in the precautionary zone. 47.2 mt is deducted from the ACL to accommodate the incidental open access fishery (8.6 mt), EFP catch (30 mt), and research catch (8.6 mt), resulting in a fishery HG of 1,575.8 mt.

ᵖᵖ Minor Slope Rockfish south. The OFL of 827 mt is the sum of the OFL contributions for the component species within the complex. The ABC for the southern Minor Slope Rockfish complex is based on a sigma value of 0.39 for aurora rockfish, a sigma value of 0.72 for category 2 stocks (blackgill rockfish, rougheye rockfish, blackspotted rockfish, and sharpchin rockfish) and a sigma value of 1.44 for category 3 stocks (all others) with a P* of 0.45. A unique sigma of 0.39 was calculated for aurora rockfish because the variance in estimated biomass was greater than the 0.36 used as a proxy for other category 1 stocks. The resulting ABC of 718 mt is the summed contribution of the ABCs for the component species. The ACL of 707 mt is the sum of the contributing ABCs of healthy assessed stocks and unassessed stocks, plus the ACL contribution of blackgill rockfish where the 40-10 adjustment was applied to the ABC contribution for this stock because it is in the precautionary zone. 20.2 mt is deducted from the ACL to accommodate the incidental open access fishery (17.2 mt), EFP catch (1 mt), and research catch (2 mt), resulting in a fishery HG of 686.8 mt. Blackgill rockfish has a stock-specific HG for the entire groundfish fishery south of 40°10' N lat. set equal to the species' contribution to the 40-10-adjusted ACL. Harvest of blackgill rockfish in all groundfish fisheries counts against this HG of 120.2 mt. Nontrawl fisheries are subject to a blackgill rockfish HG of 44.5 mt.

qq Other Flatfish. The Other Flatfish complex is comprised of flatfish species managed in the PCGFMP that are not managed with stock-specific OFLs/ABCs/ACLs. Most of the species in the Other Flatfish complex are unassessed and include: butter sole, curlfin sole, flathead sole, Pacific sanddab, rock sole, sand sole, and rex sole. The Other Flatfish OFL of 11,165 mt is based on the sum of the OFL contributions of the component stocks. The ABC of 8,510 mt is based on a sigma value of 0.72 for a category 2 stock (rex sole) and a sigma value of 1.44 for category 3 stocks (all others) with a P* of 0.40. The ACL is set equal to the ABC. The ACL is set equal to the ABC because all of the assessed stocks (i.e., Pacific sanddabs and rex sole) were above their target biomass of B25%. 204 mt is deducted from the ACL to accommodate the Tribal fishery (60 mt), the incidental open access fishery (125 mt), and research catch (19 mt), resulting in a fishery HG of 8,306 mt.

ʳʳ Other Fish. The Other Fish complex is comprised of kelp greenling coastwide, cabezon off Washington, and leopard shark coastwide. The 2015 assessment for the kelp greenling stock off of Oregon projected an estimated depletion of 80 percent in 2015. All other stocks are unassessed. The OFL of 537 mt is the sum of the OFL contributions for kelp greenling coastwide, cabezon off Washington, and leopard shark coastwide. The ABC for the Other Fish complex is based on a sigma value of 0.44 for kelp greenling off Oregon and a sigma value of 1.44 for category 3 stocks (all others) with a P* of 0.45. A unique sigma of 0.44 was calculated for kelp greenling off Oregon because the variance in estimated spawning biomass was greater than the 0.36 sigma used as a proxy for other category 1 stocks. The resulting ABC of 474 mt is the summed contribution of the ABCs for the component species. The ACL is set equal to the ABC because all of the assessed stocks (kelp greenling off Oregon) were above their target biomass of B40%. There are no deductions from the ACL so the fishery HG is equal to the ACL of 474 mt.

3. Tables 2 (North) and 2 (South) to part 660, subpart E, are revised to read as follows:

4. Tables 3 (North) and 3 (South) to part 660, subpart F, are revised to read as follows:

BILLING CODE 3510-22-P

[FR Doc. 2017-14313 Filed 7-3-17; 4:15 pm]

BILLING CODE 3510-22-C